DEPARTMENT OF HEALTH AND HUMAN SERVICES

Centers for Disease Control and Prevention

[Program Announcement 02E01]

Medical Monitoring for New York Personnel Engaged in Emergency Response Activities Related to the Disaster of September 11, 2001; Notice of Award

A. Purpose

The Centers for Disease Control and Prevention (CDC) announces the award of funds for a cooperative agreement program for Medical Monitoring for New York Personnel Engaged in Emergency Response Activities Related to the Disaster of September 11, 2001. The purpose of the program is to provide medical monitoring for New York City Fire Department and New York State Personnel who may have been exposed to hazardous substances while providing emergency response services as a result of the disaster of September 11, 2001. This program addresses the “Healthy People 2010” focus areas Environmental Health and Public Health Infrastructure.

B. Eligible Applicant

Eligible applicants are Health Research, Inc./New York State Department of Health and New York City Fire Department. No other applications were solicited. New York State has received a Presidential declaration of disaster.

This project is authorized by H.R. 2888, 2001 Emergency Supplemental Appropriations Act for Recovery from and Response to Terrorist Attacks on the United States.

C. Availability of Funds

Approximately $4,801,550 is available to fund one award to New York City Fire Department, and approximately $2,406,000 is available to fund one award to Health Research, Inc./New York State Department of Health. It is expected that each award will be made for a 12-month budget period. As long as funds are directed for these applicants, continuation funding will be made available for up to 5 years. Funding estimates may vary and are subject to change.

D. Where To Obtain Additional Information

If you have questions after reviewing the contents of all the documents, business management technical assistance may be obtained from: Sharon Robertson, Lead Grants Management Specialist, Grants Management Branch, Procurement and Grants Office, Centers for Disease Control and Prevention (CDC), Room 3000, 2920 Brandywine Road, Atlanta, GA 30341-4146, Telephone: (770) 488-2740, E-mail address: sqr2@cdc.gov.

For program technical assistance, contact: Ron Burger, Public Health Advisor, National Center for Environmental Health, Centers for Disease Control and Prevention, 4770 Buford Highway, NE (MS F-38) Atlanta, GA 30341-3724, Telephone number: (404) 488-4024, E-mail address: rburger@cdc.gov.

Dated: January 17, 2002.
Rebecca B. O'Kelley,
Chief, International Grants and Contracts Branch, Procurement and Grants Office, Center for Disease Control and Prevention (CDC).

[FR Doc. 02-1717 Filed 1-23-02; 8:45 am]

BILLING CODE 4163-18-P